DEPARTMENT OF ENERGY

Federal Energy Regulatory Commission

Notice of Procedures for Submitting Reactive Power Filings

Take notice that the Commission established procedures in Armstrong Power, LLC, 156 FERC ¶ 61,009, at PP 21-23 (2016) ¹ to be followed in making reactive power rate filings, including required informational filings.

¹ Available at http://elibrary.ferc.gov/IDMWS/common/opennat.asp?fileID=14297574.

Dated: December 5, 2016.
Nathaniel J. Davis, Sr.,
Deputy Secretary.

[FR Doc. 2016-29559 Filed 12-8-16; 8:45 am]

BILLING CODE 6717-01-P